FEDERAL COMMUNICATIONS COMMISSION

[PS Docket No. 07-69; DA No. 07-1631]

City of Boston and Sprint Nextel Corporation

AGENCY: Federal Communications Commission.

ACTION: Notice.

SUMMARY: This document commences a hearing before an administrative law judge to resolve specific, disputed 800 MHz rebanding issues between the City of Boston and Sprint Nextel Corporation. The hearing will be held at a time and place to be specified in a subsequent order.

DATES: Persons desiring to participate as parties in the hearing (other than the City of Boston and Sprint Nextel Corporation, who already are specified as a parties in the hearing) shall file a petition for leave to intervene not later than June 1, 2007.

ADDRESSES: Please file documents with the Office of the Secretary, Federal Communications Commission, 445 12th Street, SW., Washington, DC 20554. Each document that is filed in this proceeding must display on the front page the document number of this hearing, “EB Docket No. 07-13.”

FOR FURTHER INFORMATION CONTACT: Roberto Mussenden, Attorney-Advisor, Public Safety and Homeland Security Bureau, (202) 418-1428.

SUPPLEMENTARY INFORMATION: This is a summary of the Commission's Order to Show Cause, DA 07-1631, released on April 5, 2007. The full text of the Order to Show Cause is available for inspection and copying from 8 a.m. to 4:30 p.m., Monday through Thursday, or from 8 a.m. to 11:30 a.m. on Friday, at the FCC Reference Information Center, Room CY-A257, 445 12th Street, SW., Washington, DC 20554. The complete text may be purchased from the Commission's copy contractor, Best Copy and Printing, Inc. (BCPI), Portals II, 445 12th Street, S.W., Room CY-B402, Washington, DC 20554, telephone 202-488-5300, facsimile 202-488-5563, or you may contact BCPI at its Web site: http://www.BCPIWEB.com. When ordering documents from BCPI, please provide the appropriate document number, DA 07-1631. The Order to Show Cause also is available on the internet at the Commission's Web site through its Electronic Document Management System (EDOCS). The Commission's internet address for EDOCS is: http://hraunfoss.fcc.gov/edocs_public/SilverStream/Pages/edocs.html. Alternative formats are available to persons with disabilities (Braille, large print, electronic files, audio format). Send an e-mail to fcc504@fcc.gov or call the Consumer and Governmental Affairs Bureau at 202-418-0530 (voice) or 202-418-0432 (TTY).

Summary of the Hearing Designation Order

In the Hearing Designation Order, the Federal Communications Commission's Public Safety and Homeland Security Bureau, pursuant to delegated authority under § 90.677(d)(2) of the Commission's Rules, 47 CFR 90.677(d)(2), commences a hearing proceeding before an administrative law judge to determine three issues: (a) To determine, in the matter of the Boston Police Department mediation, whether Sprint Nextel is obligated to pay the City of Boston for inventory-tracking and management software from MCM Technology, LLC, and, if so, the amount of such payment, (b) to determine, in the matter of the City of Boston mediation case, whether Sprint Nextel is obligated to pay the City of Boston for inventory-tracking and management software from MCM Technology, LLC, and, if so, the amount of such payment, and (c) to determine, in the matter of the City of Boston mediation, the appropriate contractual language to govern the change order process in the Frequency Reconfiguration Agreement entered into between the City of Boston and Sprint Nextel.

The hearing will be held at a time and place to be specified in a subsequent order. Copies of the Hearing Designation Order are being sent via Certified Mail—Return Receipt Requested, to: The City of Boston, c/o Robert H. Schwaninger, Jr., Esq., Schwaninger and Associates, P.C., 1331 H Street, NW., Suite 500, Washington, DC 20005; and to Sprint Nextel, c/o Stacey Lantange, Esq., Drinker Biddle & Reath, LLP, 1500 K Street, NW., Suite 1100, Washington, DC 20005-1209.

Federal Communications Commission.
David L. Furth,
Associate Bureau Chief, Public Safety and Homeland Security Bureau.

[FR Doc. E7-8199 Filed 5-1-07; 8:45 am]

BILLING CODE 6712-01-P